DEPARTMENT OF JUSTICE

Antitrust Division

Notice Pursuant to the National Cooperative Research and Production Act of 1993—Border Security Technology Consortium

Notice is hereby given that, on October 21, 2020, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, Willowview Consulting, LLC, Eagle, ID; CUBRC, Inc., Buffalo, NY; Secure Planet, Inc., Arlington, VA; Integrated Biometrics, LLC, Spartanburg, SC; AnaVation, LLC, Reston, VA; Arcturus UAV, Inc., Petaluma, VA; Planck Aerosystems, Inc., San Diego, CA; Cross Domain Systems, Medford, MA; ThayerMahan, Groton, CT; Liberty Consulting Solutions, Toms River, NJ; Land Sea Air Autonomy, LLC, Finksburg, MD; Mobilestack Inc., Dublin, CA; Saildrone Inc., Alameda, CA; Spatial Integrated Systems, Inc., Virginia Beach, VA; PredaSAR Corporation, Boca Raton, FL; Cervello Technologies, LLC, Clearwater, FL; and Controp USA Inc., Lanham, MD have been added as parties to this venture.

Also, Blue Force Consulting, Westminster, MD; Border Solutions Group, Fabius, NY; Chartis Consulting Corporation, Falls Church, VA; General Dynamics C4 Systems, Scottsdale, AZ; Guidepost Solutions, LLC, New York, NY; Mason Livesay Scientific dba IB3 Global Solutions, Oak Ridge, TN; Motorola Solutions, Inc, Linthicum Heights, MD; Perfect Sense, Inc., Reston, VA; TransCore ITS, LLC, Harrisburg, PA; TriaSys Technologies Corporation, N. Billerica, MA; and Zolon Tech, Inc., Herndon, VA have withdrawn as parties to this venture.

No other changes have been made in either the membership or planned activity of the group research project. Membership in this group research project remains open, and BSTC intends to file additional written notifications disclosing all changes in membership.

On May 30, 2012, BSTC filed its original notification pursuant to Section 6(a) of the Act. The Department of Justice published a notice in the Federal Register pursuant to Section 6(b) of the Act on June 18, 2012 (77 FR 36292).

The last notification was filed with the Department on May 19, 2020. A notice was published in the Federal Register pursuant to section 6(b) of the Act on June 8, 2020 (85 FR 34765).

Suzanne Morris,
Chief, Premerger and Division Statistics, Antitrust Division.

[FR Doc. 2020-25592 Filed 11-18-20; 8:45 am]

BILLING CODE 4410-11-P